CONSUMER PRODUCT SAFETY COMMISSION

16 CFR Part 1421

[Docket No. CPSC-2021-0014]

Notice of Availability and Request for Comment: Data Regarding Debris Penetration Hazards for Recreational Off-Highway Vehicles and Utility Task/Terrain Vehicles; Extension of Comment Period

AGENCY: Consumer Product Safety Commission.

ACTION: Proposed rule; extension of comment period.

SUMMARY: The U.S. Consumer Product Safety Commission (Commission or CPSC) published a notice of proposed rulemaking (NPR) in July 2022 to address debris penetration hazards for recreational off-highway vehicles (ROVs) and utility task/terrain vehicles (UTVs). On October 4, 2024, the Commission published a notice of availability and request for comment (NOA) to announce the availability of, and to seek comments on, details about incident data relevant to the NPR. The NOA invited the public to submit written comments during a 30-day comment period ending on November 4, 2024. In response to a request for an extension of the NOA comment period, the Commission is extending the comment period to December 4, 2024.

DATES: The comment period for the proposed rule published on October 4, 2024, at 89 FR 80831, is extended. Submit comments by December 4, 2024.

ADDRESSES: Submit comments, identified by Docket No. CPSC-2021-0014, by any of the following methods:

Electronic Submissions: Submit electronic comments to the Federal eRulemaking Portal at: https://www.regulations.gov. Follow the instructions for submitting comments. CPSC does not accept comments submitted by email, except as described below. CPSC encourages you to submit electronic comments by using the Federal eRulemaking Portal.

Mail/Hand Delivery/Courier Written Submissions: Submit comments by mail/hand delivery/courier to: Office of the Secretary, U.S. Consumer Product Safety Commission, 4330 East West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit electronically: confidential business information, trade secret information, or other sensitive or protected information that you do not want to be available to the public. If you wish to submit such information, please submit it according to the instructions for mail/hand delivery/courier written submissions.

Docket: To read background documents or comments received, go to: https://www.regulations.gov, insert Docket No. CPSC-2021-0014 in the “Search” box, and follow the prompts.

FOR FURTHER INFORMATION CONTACT: Han Lim, Project Manager, Office of Hazard Identification and Reduction, Directorate for Engineering Sciences, U.S. Consumer Product Safety Commission, 5 Research Place, Rockville, MD 20850; telephone: (301) 987-2327; email: hlim@cpsc.gov.

SUPPLEMENTARY INFORMATION:

A. Background

Section 7(a) of the Consumer Product Safety Act authorizes the Commission to promulgate a mandatory consumer product safety standard that sets forth performance or labeling requirements for a consumer product, if such requirements are reasonably necessary to prevent or reduce an unreasonable risk of injury. 15 U.S.C. 2056(a). Under this statutory authority, in 2021, the Commission initiated a rulemaking to reduce the risk of injuries and deaths associated with penetration of ROVs and UTVs by debris such as fallen tree branches. The Commission published an advance notice of proposed rulemaking (ANPR) on May 11, 2021 (86 FR 25817), and an NPR on July 21, 2022 (87 FR 43688).¹

¹ On December 21, 2022, the Commission also published a notice of availability and request for comment on a report from SEA, Ltd. titled “Study of Debris Penetration of Recreational Off-Highway Vehicle (ROV) Proof-of-Concept (POC) Floorboard Guards” (87 FR 78037).

On October 4, 2024 (89 FR 80831), the Commission published in the Federal Register a notice of availability and request for comment to announce the availability of, and to seek comments on, details about incident data relevant to the NPR. The NOA invited the public to submit written comments during a 30-day comment period ending on November 4, 2024.

B. Comment Period Extension

On October 8, 2024, the Outdoor Power Equipment Institute (OPEI) and the Recreational Off-Highway Vehicle Association (ROHVA) submitted a request to extend the public comment period of the NOA for an additional 30 days to December 4, 2024. In particular, OPEI and ROHVA asserted that, given the volume of the data and the format in which CPSC has provided access to the data,² a 30-day extension is necessary to permit OPEI, ROHVA, and other members of the public to have a meaningful opportunity to comment. The Commission has considered OPEI's and ROHVA's request to extend the comment period. Currently, the comment period is due to close on November 4, 2024. To provide the public additional time to review and comment on the data, the Commission will grant the requested 30-day extension of the comment period, until December 4, 2024.³

² To obtain access to the data, a request can be submitted to: https://forms.office.com/g/Yz4tNFdhDp; a website link to access the data will be sent to the email address provided.

³ The Commission voted (4-1) on October 22, 2024, to publish this document.

Alberta E. Mills,
Secretary, Consumer Product Safety Commission.

[FR Doc. 2024-25132 Filed 10-29-24; 8:45 am]

BILLING CODE 6355-01-P